DEPARTMENT OF JUSTICE

Antitrust Division

Notice Pursuant to the National Cooperative Research and Production Act of 1993—VSI Alliance

Notice is hereby given that, on April 20, 1999, pursuant to section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, Prakash Bare (individual membership), San Jose, CA; EnThink, Inc., Santa Clara, CA; Hantro Products Oy, Oulu, FINLAND; Korea Electronic Technology Institute, Pyung Taek-Si, Kyung Gi-Do, SOUTH KOREA; Massana, Inc., Campbell, CA; TAEUS, Colorado Springs, CO; The Silicon Group, Inc., Austin, TX; and Worldwide Semiconductor Manufacturing Corp., Hsinchu, TAIWAN have been added as parties to this venture. Also, Ambit Design Systems, Inc., Austin, TX; Beijing Intelligent Electronics Co., Ltd., Beijing, PEOPLES REPUBLIC OF CHINA; CAE Plus, Inc., Austin, TX; Cygnus Solutions, Sunnyvale, CA; Duet Technologies, Inc., San Jose, CA; Exemplar Logic, Inc., Fremont, CA; FFC Limited (Fuji Facom Control), Tokyo, JAPAN; Lockheed Martin Advanced Technology Labs, Camden, NJ; LTX Corp., Westwood, MA; Neuw Intellectual Property, Oldham, Lancs., UNITED KINGDOM; SIS Microelectronics, Inc., Longmont, CO; Spinnaker Systems, Inc., Tokyo, JAPAN; Vantis, Sunnyvale, CA; Wipro Ltd., Santa Clara, CA; and Yokogawa Electric Corp., Tokyo, JAPAN have been dropped as parties to this venture.

No other changes have been made in either the membership or planned activity of the group research project. Membership in this group research project remains open, and VSI Alliance intends to file additional written notification disclosing all changes in membership.

On November 29, 1996, VSI Alliance filed its original notification pursuant to Section 6(a) of the Act. The Department of Justice published a notice in the Federal Register pursuant to Section 6(b) of the Act on March 4, 1997 (62 FR 9812).

The last notification was filed with the Department on February 11, 1999. A notice has not yet been published in the Federal Register.

Constance K. Robinson,
Director of Operations, Antitrust Division.

[FR Doc. 00-3123 Filed 2-9-00; 8:45 am]

BILLING CODE 4410-11-M